DEPARTMENT OF HEALTH AND HUMAN SERVICES

Office of the National Coordinator for Health Information Technology; Announcement of Requirements and Registration for “Behavioral Health Patient Empowerment Challenge”

AGENCY: Office of the National Coordinator for Health Information Technology, HHS.

Award Approving Official: Farzad Mostashari, National Coordinator for Health Information Technology.

ACTION: Notice.

SUMMARY: Behavioral health disorders are common in the United States. Approximately 20% of adults and 13% of adolescents suffer from mental disorders each year and 8.7% of Americans aged 12 and older experience substance dependence or abuse each year.1 2 Rates of mental health problems are significantly higher for patients with chronic conditions such as diabetes, asthma, and heart conditions ³ and failure to treat both physical and mental health conditions results in poorer health outcomes and higher health care costs.³ Yet despite the high personal and societal burden of these disorders fewer than half of adults and only one-third of children with mental disorders and only 11 percent of individuals with substance use disorders receive treatment.1 2 For many individuals this results from limited access to care, for others it is a result of reservations about accessing specialty care.

¹ 2010-2011 National Survey on Drug Use and Health, http://www.samhsa.gov/data/nsduh/2k10nsduh/2k10results.htm.

² Results from the 2010 NSDUH: Mental Health Findings: http://www.samhsa.gov/data/nsduh/2k10MH_Findings/2k10MHResults.htm.

³ http://www.cdc.gov/Features/MentalHealthSurveillance/.

Health IT has significant potential to enable self management of behavioral health disorders (including both mental health and substance use disorders) as well as to act as a treatment extender for patients with limited access to care. On September 16th Office of the National Coordinator for Health Information Technology (ONC), in partnership with the Substance Abuse and Mental Health Services Administration (SAMHSA), Office of National Drug Control Policy (ONDCP), and National Institutes of Health (NIH) is organizing a Technology Innovations for Substance Abuse and Mental Health Disorders Conference taking place at the White House. This conference will highlight how technology can be used to improve treatment for behavioral health disorders. In conjunction with this conference ONC is issuing this Behavioral Health Patient Empowerment Challenge to identify and highlight existing technologies that empower consumers to manage their mental health and/or substance use disorders.

The statutory authority for this challenge competition is Section 105 of the America COMPETES Reauthorization Act of 2010 (Pub. L. 111-358).

DATES: Submission period begins: August 21, 2013.

Submission period ends: September 3, 2013.

Winners announced: Substance Abuse and Mental Health Disorders Conference, White House, September 16, 2013.

FOR FURTHER INFORMATION CONTACT: Adam Wong, 202-720-2866.

SUPPLEMENTARY INFORMATION:

Subject of Challenge Competition

The Behavioral Health Patient Empowerment Challenge is a call for developers to showcase technologies that empower consumers to manage their mental health and/or substance use disorders. The intent of the challenge is to identify and highlight existing innovative technologies that use evidence based strategies to empower consumer self-management of behavioral health disorders.

The application submitted must be available for use by consumers on a widely-used platform for mobile devices by the submission end date of September 3.

To be eligible to receive a prize, Solvers must submit:

(1) The functioning application, or directions to access it,

(2) an overview, of no more than 500 words, that

a. provides an overview of the target population for the tool and the evidence base supporting the functionality included for addressing the needs of the target population

b. discusses how the target population can use this technology to better manage their symptoms or their recovery process

c. discusses how the application is designed to keep the user engaged over time to promote consistent use

d. describes the application's existing ability to be integrated with EHR/PHRs or other tools

(3) a 5 minute-maximum video demonstration of the tool.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this Challenge, participants can access http://www.challenge.gov and search for “Behavioral Health Patient Empowerment Challenge.”

Prize

The top three finishers will be invited to the event taking place at the White House, and the winner will be able to demo it there. Travel funding is not available, so if the winner cannot attend in person the video demonstration of the winning technology will be played during the conference.

The top three technologies will be highlighted on a behavioral health technology innovations Web site which is being developed by the National Institutes of Health (NIH) in conjunction with this conference.

Payment of the Prize

No monetary prize is provided for this challenge.

Basis Upon Which Winner Will Be Selected

The review panel will make selections based upon the following criteria:

Evidence base for the functionality included in the application

Application usability, including intuitiveness, capacity to engage the user, and user interface

Comprehensiveness of the technology for addressing the behavioral health needs of the target population

Existing ability to be integrated with EHR/PHRs or other tools

In order for an entry to be eligible to win this Challenge, it must meet the following requirements:

General—Contestants must provide continuous access to the tool, a detailed description of the tool, instructions on how to install and operate the tool, and system requirements required to run the tool (collectively, “Submission”).

Acceptable platforms—The tool must be designed for use on a widely-used platform for mobile devices; this includes web optimization for mobile devices.

Section 508 Compliance—Contestants must acknowledge that they understand that, as a pre-requisite to any subsequent acquisition by FAR contract or other method, they may be required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/web/508/contracting/technology/vendors.html, provides a useful roadmap for developers to review. It is a simple, web-based checklist utilized by HHS officials to allow vendors to document how their products do or do not meet the various Section 508 requirements.

No HHS, ONC, or other federal government logo—The app must not use HHS', ONC's, or any other federal government agency's logos or official seals in the Submission, and must not claim endorsement.

Functionality/Accuracy—A Submission may be disqualified if the software application fails to function as expressed in the description provided by the user, or if the software application provides inaccurate or incomplete information.

Security—Submissions must be free of malware. Contestant agrees that ONC may conduct testing on the app to determine whether malware or other security threats may be present. ONC may disqualify the app if, in ONC's judgment, the app may damage government or others' equipment or operating environment.

Additional Information

General Conditions: ONC reserves the right to cancel, suspend, and/or modify the Contest, or any part of it, for any reason, at ONC's sole discretion. Participation in this Contest constitutes a contestant's full and unconditional agreement to abide by the Contest's Official Rules found at www.challenge.gov.

Privacy Policy: ChallengePost collects personal information from you when you register on Challenge.gov. The information collected is subject to the ChallengePost privacy policy located at www.challengepost.com/privacy.

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty-free, worldwide license and right to reproduce, publically perform, publically display, and use the Submission to the extent necessary to administer the challenge, and to publically perform and publically display the Submission, including, without limitation, for advertising and promotional purposes relating to the challenge.

Authority: 15 U.S.C. 3719.

Dated: August 19, 2013.
David Muntz,
Principal Deputy National Coordinator for Health Information Technology.

[FR Doc. 2013-20790 Filed 8-26-13; 8:45 am]

BILLING CODE 4150-45-P